DEPARTMENT OF STATE

[Public Notice 6811]

U.S. Department of State Advisory Committee on Private International Law: Public Meeting of the Study Group on International Transport Law Regarding Implementation of the United Nations Convention on Contracts for the International Carriage of Goods Wholly or Partly by Sea (the “Rotterdam Rules”)

The United States signed the Rotterdam Rules on September 23. The Executive Branch intends to recommend to the Congress the manner in which the Rotterdam Rules should be implemented if the United States becomes a party to the Rotterdam Rules. A public meeting of the Study Group on International Transport Law will be held, under the auspices of the Advisory Committee on Private International Law, to discuss issues regarding the domestic implementation of the Rotterdam Rules.

Time and Place: The public meeting will take place in Room 240, South Building, 2430 E Street, NW., Washington, DC on December 9, 2009. Visitors should appear at the gate at the southwest corner of 23rd and C Streets by 8:30 a.m. The meeting will begin at 9 a.m. and is expected to last no later than 12 p.m. It is possible that the subject matter of this meeting will continue to be discussed in subsequent teleconferences. If you are unable to attend the public meeting and would like to participate from a remote location, teleconferencing will be available.

Public Participation: It is requested that persons wishing to attend contact Trish Smeltzer prior to December 2, 2009 at smeltzertk@state.gov or 202-776-8423 and provide their name, date of birth for pre-clearance purposes, as well as e-mail address and affiliation. Members of the public who are not pre-cleared might encounter delays with security procedures. A member of the public requesting reasonable accommodation should make his or her request upon registering for the meeting. Such requests received after December 2nd will be considered but might not be possible to fulfill. Please contact Ms. Smeltzer for additional meeting information, including teleconferencing details.

Dated: November 12, 2009.
Keith Loken,
Assistant Legal Adviser, Office of Private International Law, Office of the Legal Adviser, Department of State.

[FR Doc. E9-28427 Filed 11-25-09; 8:45 am]

BILLING CODE 4710-08-P